DEPARTMENT OF THE INTERIOR

National Park Service

[NPS-NCR-WHHO-0911-8507; 3086-SYM]

Correction of Notice of Meeting, Committee for the Preservation of the White House

AGENCY: National Park Service, Interior.

ACTION: Correction to a notice of meeting.

SUMMARY: This notice contains a correction to the Notice of Meeting which was published by the National Park Service (NPS) in the Federal Register on Wednesday, September 21, 2011 (76 FR 58535). That notice publishes an incorrect deadline date by which the NPS must receive clearance information in advance of a meeting of the Committee for the Preservation of the White House which will occur October 18, 2011. The purpose, date, time and place of the meeting are correct as published in the September 21, 2011, notice.

DATES: October 11, 2011, is the deadline for submitting appointment and clearance information in advance of the October 18, 2011, meeting.

FOR FURTHER INFORMATION CONTACT: Ann Bowman Smith, Executive Secretary, Committee for the Preservation of the White House, (202) 619-6344.

SUPPLEMENTARY INFORMATION:

Need for Correction

On September 21, 2011, the NPS announced that a meeting of the Committee for the Preservation of the White House would take place on October 18, 2011. The NPS regrets that there is a typographical error in the SUPPLEMENTARY INFORMATION section of that meeting announcement (“Notice of Meeting, Committee for the Preservation of the White House” (76 FR 58535)).

As published, the September 21, 2011, notice provides an incorrect submission deadline date for security clearance information. That notice states: “The meeting will be open, but subject to appointment and security clearance requirements. Clearance information, which includes full name, date of birth, Social Security number, city and state of residence, and country of citizenship must be received by October 11, 2008.”

Correction of Publication

“The meeting will be open, but subject to appointment and security clearance requirements. Clearance information, which includes full name, date of birth, Social Security number, city and state of residence, and country of citizenship must be received by October 11, 2011.”

Dated: September 23, 2011.
Ann Bowman Smith,
Executive Secretary, Committee for the Preservation of the White House.

[FR Doc. 2011-25796 Filed 10-5-11; 8:45 am]

BILLING CODE 4312-54-P